SECURITIES AND EXCHANGE COMMISSION

[ File No. 500-1]

In the Matter of China Organic Fertilizer, Inc., Order of Suspension of Trading

June 18, 2015.

It appears to the Securities and Exchange Commission (“Commission”) that there is a lack of current and accurate information concerning the securities of China Organic Fertilizer, Inc. (“CHOR” ¹) (CIK No. 1081944), a revoked Nevada corporation whose principal place of business is listed as Beijing, China because it is delinquent in its periodic filings with the Commission, having not filed any periodic reports since it filed a Form 10-Q for the period ended March 31, 2011. As of June 10, 2015, CHOR's common stock was quoted on OTC Link (previously “Pink Sheets”) operated by OTC Markets Group Inc. On May 12, 2014, the Commission's Division of Corporation Finance sent a delinquency letter to CHOR at the address shown in its then-most recent filing in the Commission's EDGAR system requesting compliance with its periodic filing requirements, which CHOR failed to receive because the letter was not deliverable as addressed. CHOR thus failed to maintain a valid address on file with the Commission as required by Commission rules (Rule 301 of Regulation S-T, 17 CFR 232.301 and Section 5.4 of EDGAR Filer Manual). To date, CHOR has failed to cure its delinquencies.

¹ The short form of the issuer's name is also its ticker symbol.

The Commission is of the opinion that the public interest and the protection of investors require a suspension of trading in the securities of the above-listed company. Therefore, it is ordered, pursuant to Section 12(k) of the Securities Exchange Act of 1934, that trading in the securities of the above-listed company is suspended for the period from 9:30 a.m. EDT on June 18, 2015, through 11:59 p.m. EDT on July 1, 2015.

By the Commission.
Jill M. Peterson,
Assistant Secretary.

[FR Doc. 2015-15381 Filed 6-18-15; 4:15 pm]

BILLING CODE 8011-01-P